DEPARTMENT OF THE TREASURY

Submission for OMB Review; Comment Request

June 18, 2012.

The Department of the Treasury will submit the following information collection request to the Office of Management and Budget (OMB) for review and clearance in accordance with the Paperwork Reduction Act of 1995, Public Law 104-13, on or after the date of publication of this notice.

DATES: Comments should be received on or before July 23, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Internal Revenue Service (IRS)

OMB Number: 1545-0205.

Type of Review: Extension without change of a currently approved collection.

Title: Corporate Report of Nondividend Distributions.

Form: 5452.

Abstract: Form 5452 is used by corporations to report their nontaxable distributions as required by IRC 6042(d)(2). The information is used by IRS to verify that the distributions are nontaxable as claimed.

Affected Public: Private Sector: Business or other for-profits.

Estimated Total Burden Hours: 57,885.

OMB Number: 1545-0817.

Type of Review: Extension without change of a currently approved collection.

Title: EE-28-78 (TD 7845) (Final) Inspection of Applications for Tax Exemption and Applications for Determination Letters for Pension and Other Plans.

Abstract: Internal Revenue Code section 6104 requires applications for tax exempt status, annual reports of private foundations, and certain portions of returns to be open for public inspection. Some information may be withheld from disclosure. IRS needs the information to comply with requests for public inspection of the above-named documents.

Affected Public: Private Sector: Business or other for-profits.

Estimated Total Burden Hours: 8,538.

OMB Number: 1545-0916.

Type of Review: Extension without change of a currently approved collection.

Title: EE-96-85 (NPRM) and EE-63-84 (Temporary regulations) Effective Dates and Other Issues Arising Under the Employee Benefit Provisions of the Tax Reform Act of 1984.

Abstract: These temporary regulations provide rules relating to effective dates and other issues arising under sections 91, 223 and 511-561 of the Tax Reform Act of 1984.

Affected Public: Private Sector: Business or other for-profits.

Estimated Total Burden Hours: 4,000.

OMB Number: 1545-1671.

Type of Review: Extension without change of a currently approved collection.

Title: REG-209709-94 (Final) Amortization of Intangible Property.

Abstract: The information is required by the IRS to aid it in administering the law and to implement the election provided by section 197(f)(9)(B) of the Internal Revenue Code. The information will be used to verify that a taxpayer is properly reporting its amortization and income taxes.

Affected Public: Private Sector: Business or other for-profits.

Estimated Total Burden Hours: 1,500.

OMB Number: 1545-2122.

Type of Review: Extension without change of a currently approved collection.

Title: Form 8931, Agricultural Chemicals Security Credit.

Form: 8931.

Abstract: Form 8931 is used to claim the tax credit for qualified agricultural chemicals security costs paid or incurred by eligible agricultural businesses. All the costs must be paid or incurred to protect specified agricultural chemicals at a facility.

Affected Public: Private Sector: Business or other for-profits.

Estimated Total Burden Hours: 389,330.

Dawn D. Wolfgang,
Treasury PRA Clearance Officer.

[FR Doc. 2012-15186 Filed 6-20-12; 8:45 am]

BILLING CODE 4830-01-P